DEPARTMENT OF HEALTH AND HUMAN SERVICES

National Institutes of Health

National Institute of Environmental Health Sciences; Amended Notice of Meeting

Notice is hereby given of a change in the meeting of the National Institute of Environmental Health Sciences Special Emphasis Panel, February 19, 2003, 10 a.m. to February 19, 2003, 1 p.m., which was published in the Federal Register on January 16, 2003, FR68: 2344.

The time of this meeting has changed from 10 a.m., as previously advertised, to 11 a.m. The meeting is closed to the public.

Dated: January 29, 2003.
LaVerne Y. Stringfield,
Director, Office of Federal Advisory Committee Policy.

[FR Doc. 03-2618 Filed 2-4-03; 8:45 am]

BILLING CODE 4140-01-M